DEPARTMENT OF TRANSPORTATION

Federal Aviation Administration

14 CFR Part 73

[Airspace Docket No. 00-AGL-5]

RIN 2120-AA66

Change Controlling Agency for Restricted Areas R-6901A and R-6901B; Fort McCoy, WI

AGENCY: Federal Aviation Administration (FAA), DOT.

ACTION: Final rule.

SUMMARY: This action changes the controlling agency for Restricted Areas R-6901A and R-6901B from “Minneapolis Air Route Traffic Control Center (ARTCC)” to “Chicago ARTCC.” This action is being taken due to a realignment of airspace areas under the control jurisdiction of Chicago ARTCC.

EFFECTIVE DATE: 0901 UTC, April 20, 2000.

FOR FURTHER INFORMATION CONTACT: Sheri Edgett Baron, Airspace and Rules Division, ATA-400, Office of Air Traffic Airspace Management, Federal Aviation Administration, 800 Independence Avenue, SW., Washington, DC 20591; telephone: (202) 267-8783.

SUPPLEMENTARY INFORMATION:

Background

Due to the realignment of airspace in the vicinity of R-6901A and R-6901-B, Chicago ARTCC has assumed responsibility for performing the function of controlling agency for these areas.

The Rule

This action amends 14 CFR part 73 by changing the designated controlling agency for R-6901A and R-6901B from “FAA, Minneapolis ARTCC,” to “FAA, Chicago ARTCC.” There are no changes to the boundaries, altitudes, time of designation, or activities conducted within the restricted areas.

Since this action simply changes the controlling agency for the existing restricted areas, and does not involve a change in the dimensions or operating requirements of that airspace, notice and public procedure under 5 U.S.C. 553(b) are unnecessary.

Section 73.69 of part 73 was republished in FAA Order 7400.8G, dated September 1, 1999.

The FAA has determined that this regulation only involves an established body of technical regulations for which frequent and routine amendments are necessary to keep them operationally current. Therefore this regulation: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This action is a minor administrative change amending the published designation of the controlling agency for existing R-6901A and R-901B. There are no changes to air traffic control procedures or routes as a result of this action. Therefore, this action is not subject to environmental assessments and procedures under FAA Order 1050.1D, “Policies and Procedures for Considering Environmental Impacts,” and the National Environmental Policy Act of 1969.

List of Subjects in 14 CFR Part 73

Airspace, Incorporation by reference, Navigation (air).

Adoption of the Amendment

In consideration of the foregoing, the Federal Aviation Administration amends 14 CFR part 73 as follows:

PART 73—SPECIAL USE AIRSPACE

1. The authority citation for 14 CFR part 73 continues to read as follows:

Authority: 49 U.S.C. 106(g), 40103, 40113, 40120; E.O. 10854, 24 FR 9565, 3 CFR, 1959-1963 Comp., p. 389.

§ 73.69 [Amended]

2. § 73.69 is amended as follows:

R-6901A Fort McCoy, WI

By removing the words “Controlling agency. FAA, Minneapolis ARTCC,” and substituting the words “Controlling agency. FAA Chicago ARTCC.”

R-6901B Fort McCoy, WI

By removing the words “Controlling agency. FAA, Minneapolis ARTCC,” and substituting the words “Controlling agency. FAA Chicago ARTCC.”

Issued in Washington, DC, on February 17, 2000.
Terry K. Brown,
Acting Manager, Airspace and Rules Division.

[FR Doc. 00-4485 Filed 2-24-00; 8:45 am]

BILLING CODE 4910-13-P